DEPARTMENT OF AGRICULTURE

Animal and Plant Health Inspection Service

[Docket No. APHIS-2009-0097]

Notice of Decision To Issue Permits for the Importation of Fresh Figs From Chile into the Continental United States

AGENCY: Animal and Plant Health Inspection Service, USDA.

ACTION: Notice.

SUMMARY: We are advising the public of our decision to begin issuing permits for the importation into the continental United States of fresh figs from Chile. Based on the findings of a pest risk analysis, which we made available to the public for review and comment through a previous notice, we believe that the application of one or more designated phytosanitary measures will be sufficient to mitigate the risks of introducing or disseminating plant pests or noxious weeds via the importation of fresh figs from Chile.

DATES: Effective Date: April 4, 2011.

FOR FURTHER INFORMATION CONTACT: Ms. Claudia Ferguson, Regulatory Policy Specialist, Regulatory Coordination and Compliance, PPQ, APHIS, 4700 River Road Unit 133, Riverdale, MD 20737-1231; (301) 734-0754.

SUPPLEMENTARY INFORMATION: Under the regulations in “Subpart—Fruits and Vegetables” (7 CFR 319.56-1 through 319.56-50, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis, can be safely imported subject to one or more of the designated phytosanitary measures listed in paragraph (b) of that section. Under that process, APHIS publishes a notice in the Federal Register announcing the availability of the pest risk analysis that evaluates the risks associated with the importation of a particular fruit or vegetable. Following the close of the 60-day comment period, APHIS may begin issuing permits for importation of the fruit or vegetable subject to the identified designated measures if: (1) No comments were received on the pest risk analysis; (2) the comments on the pest risk analysis revealed that no changes to the pest risk analysis were necessary; or (3) changes to the pest risk analysis were made in response to public comments, but the changes did not affect the overall conclusions of the analysis and the Administrator's determination of risk.

In accordance with that process, we published a notice ¹ in the Federal Register on February 9, 2010 (75 FR 6344-6345, Docket No. APHIS-2009-0097), in which we announced the availability, for review and comment, of two pest risk analyses that evaluate the risks associated with the importation into the continental United States of fresh figs, pomegranates, and baby kiwi fruit from Chile. We solicited comments on the notice for 60 days ending on April 12, 2010. We received 25 comments by that date, from port terminal operators, growers' associations, trade associations, a fumigation service, a State agriculture department, a foreign government agency, a foreign trade association, and several produce importers, exporters, and wholesalers. Most of the commenters agreed that the mitigation measures described in the pest risk analysis would be adequate. However, three commenters raised concerns about the pest risk analyses or proposed mitigation measures. The issues raised by two of those commenters were addressed in a notice of decision to issue permits for the importation of fresh pomegranates and baby kiwi from Chile into the United States,² published in the Federal Register on May 12, 2010 (75 FR 26707-26708).

¹ To view the February 2010 notice and the comments we received, and the May 2010 notice, go to http://www.regulations.gov/fdmspublic/component/main?main=DocketDetail&d=APHIS-2009-0097.

² See footnote 1.

The third commenter raised several concerns regarding the risks associated with the importation of fresh figs from Chile. In order to give ourselves adequate time to explore the issues raised by the commenter, we delayed our decision on figs and addressed only pomegranates and baby kiwi from Chile in our May 2010 notice.

The commenter stated that fumigation of fresh figs in the recommended treatment may not kill eggs of the insects of concern because eggs would most likely be deposited in the tissues of the fruit through the ostiole of the fig. The commenter was concerned that the treatment would not penetrate the fruit and kill the pest.

While the commenter did not specify a particular insect of concern, the pest risk assessment identified Mediterranean fruit fly (Ceratitis capitata) and the Chilean red mite (Brevipalpis chilensis) as pests having a high risk potential. Since the pest risk assessment was prepared, all of Chile has been recognized as a pest-free area for Mediterranean fruit fly. The treatment schedule that would be required for figs has been found to be highly effective for all stages of Chilean red mite on grapes, and the efficacy can be extrapolated to include figs. Methyl bromide is a gas and can penetrate the ostiole of the fig. Furthermore, the Chilean red mite is a surface feeder that lays its eggs in cracks and crevices that are exposed to the air and, thus, to methyl bromide when fumigated.

The commenter stated that the diseases of fresh figs in Chile should be compared to the diseases in the United States to determine whether or not they are the same strain. The commenter was concerned that the taxa of microbial and fungal pathogens identified as present in Chile might, if incompletely identified, be different from taxa already present in the United States, and that the pest risk assessment would not, therefore, have taken the risk associated with those specific pathogens into account.

We agree that different strains of pathogens that are epidemiologically significant may exist; however, we found no information indicating that this was the case for any of the pathogens known to be present in both Chile and the United States. When assessing risk, we may consider incompletely identified taxa at a higher taxonomic level if the higher taxon (i.e., the entire genus or family) is not present in the United States, or if specific evidence indicates that the unidentified taxon is different from the ones in the United States. In this case, because we found no evidence that these incompletely identified taxa are different from the taxa present in the United States, we did not analyze them further. If pests identified to more specific taxa are intercepted in the future, we may reevaluate their risk.

The commenter expressed concern that the proposed methyl bromide treatment schedule could produce an unpalatable fruit, which might result in a reduced market price for all figs, imported and domestic. The commenter also expressed concern that if a lower dose was used to treat fresh figs to improve their shelf life, there is still a risk that the mites could survive.

APHIS does not alter treatment doses due to phytotoxicity to the commodity. Treatments for the pests are based on research on the individual pests and are not changed unless the change is supported by data showing the efficacy of the new dose.

The commenter expressed concern that the generic surface pest treatment schedules, including the one proposed for fresh figs from Chile, might not be adequate to kill the Chilean red mite. The commenter stated that the California cherry and strawberry industries both had to use higher doses of methyl bromide to solve mite problems in their export programs.

The Chilean red mite, which belongs to the family Tenuipalpidae, is not present in California; the mites in California produce are likely to be spider mites of the family Tetranychidae, and would require different treatment. The treatment schedule proposed for figs from Chile has been shown to be effective for Chilean red mite. As with other fruit imports, we will monitor the pest levels and if we determine that risks are such as would require adjusting the treatment dose or duration, we will take the appropriate action.

The commenter stated that a treatment schedule specific to figs should be established for the treatment of Mediterranean fruit fly, for purposes of phytotoxicity and the tolerance of Mediterranean fruit fly relative to other target insects, including mites.

As we explained above, since the publication of the pest risk assessment, all of Chile has been recognized as a pest-free area for Mediterranean fruit fly. There is no need to develop a specific treatment schedule for use on figs from that country.

Therefore, in accordance with the regulations in § 319.56-4(c)(2)(ii), we are announcing our decision to begin issuing permits for the importation into the continental United States of fresh figs from Chile subject to the following phytosanitary measures:

• Each shipment of figs must be accompanied by a phytosanitary certificate. The phytosanitary certificate must be issued by the national plant protection organization of Chile.

• The shipment must be fumigated with methyl bromide using treatment schedule T-101-i-2-1 in accordance with 7 CFR part 305.

• The figs must be a commercial consignment as defined in 7 CFR 319.56-2.

These conditions will be listed in the Fruits and Vegetables Import Requirements database (available at http://www.aphis.usda.gov/favir). In addition to those specific measures, the fresh figs will be subject to the general requirements listed in § 319.56-3 that are applicable to the importation of all fruits and vegetables.

Authority: 7 U.S.C. 450, 7701-7772, and 7781-7786; 21 U.S.C. 136 and 136a; 7 CFR 2.22, 2.80, and 371.3.

Done in Washington, DC, this 29th day of March 2011.
Kevin Shea,
Acting Administrator, Animal and Plant Health Inspection Service.

[FR Doc. 2011-7896 Filed 4-1-11; 8:45 am]

BILLING CODE 3410-34-P